SOCIAL SECURITY ADMINISTRATION

[Docket No: SSA-2024-0033]

Agency Information Collection Activities: Proposed Request

The Social Security Administration (SSA) publishes a list of information collection packages requiring clearance by the Office of Management and Budget (OMB) in compliance with Public Law 104-13, the Paperwork Reduction Act of 1995, effective October 1, 1995. This notice includes a request for a new information collection.

SSA is soliciting comments on the accuracy of the agency's burden estimate; the need for the information; its practical utility; ways to enhance its quality, utility, and clarity; and ways to minimize burden on respondents, including the use of automated collection techniques or other forms of information technology. Mail, email, or fax your comments and recommendations on the information collection(s) to the OMB Desk Officer and SSA Reports Clearance Officer at the following addresses or fax numbers.

(OMB) Office of Management and Budget, Attn: Desk Officer for SSA

You may submit your comments online through https://www.reginfo.gov/public/do/PRAMain, referencing Docket ID Number [SSA-2024-0033].

(SSA) Social Security Administration, OLCA, Attn: Reports Clearance Director, Mail Stop 3253 Altmeyer, 6401 Security Blvd., Baltimore, MD 21235, Fax: 833-410-1631, Email address: OR.Reports.Clearance@ssa.gov

Or you may submit your comments online through https://www.reginfo.gov/public/do/PRAmain by clicking on Currently under Review—Open for Public Comments and choosing to click on one of SSA's published items. Please reference Docket ID Number [SSA-2024-003] in your submitted response.

The information collections below are pending at SSA. SSA will submit them to OMB within 60 days from the date of this notice. To be sure we consider your comments, we must receive them no later than November 26, 2024. Individuals can obtain copies of the collection instruments by writing to the above email address.

1. Developing Opportunities for ABLE Owners (DO-ABLE)—0960-NEW.

Background

SSA is requesting clearance to collect data necessary to evaluate the Developing Opportunities for ABLE Owners (DO-ABLE) under the Interventional Cooperative Agreement Program (ICAP). On May 6, 2021, the Social Security Administration (SSA) announced a new funding opportunity, the Interventional Cooperative Agreement Program (ICAP), in the Federal Register, 86 FR 24427. ICAP allows SSA to partner with various non-federal groups and organizations to advance interventional research connected to the Supplemental Security Income (SSI) and Social Security Disability Insurance (SSDI) programs. On September 28, 2023, SSA awarded a cooperative agreement to the University of Chicago's Inclusive Economy Lab (IEL) through the Interventional Cooperative Agreement Program (ICAP). Through the cooperative agreement, IEL will conduct the Developing Opportunities for Achieving a Better Life Experience Owners (DO-ABLE) demonstration project.

DO-ABLE Project Description

DO-ABLE intends to promote take-up and use of ABLE accounts among Supplemental Security Income (SSI) recipients in Illinois and Wisconsin through a three-phased randomized controlled trial (RCT). ABLE accounts are tax-advantaged savings accounts, which offer people with disabilities the opportunity to accumulate assets and use funds for a broad range of expenses without threatening SSI benefits eligibility. Up to $100,000 saved in an ABLE account is exempt from the SSI resource limit.¹ Regardless of the benefits ABLE accounts offer to SSI recipients, very few people have accounts. To be eligible for ABLE, one must have a disability that (1) meets SSA's definition of disability; and (2) started before age 26. Our study will therefore include current adult SSI recipients in Illinois and Wisconsin who are ages 18 to 59 who first received SSI before age 26, all of whom are eligible for ABLE accounts. We will exclude existing ABLE account owners from the study.

¹ SSI cash benefits are suspended if ABLE account balances exceed this $100,000 threshold; however, ABLE account balances do not affect Medicaid eligibility.

The DO-ABLE evaluation uses a three-phased randomized controlled trial (RCT) to promote take-up and use of ABLE accounts. We designed each of the three phases of the proposed RCT to address and engage with a key barrier identified through our previous research as preventing uptake of ABLE accounts: (1) limited knowledge of the program; (2) administrative burden associated with opening and using the accounts; (3) limited resources to save. To collect this information, we will first send letters to approximately 85,000 of the roughly 100,000 eligible SSI recipients in Illinois and Wisconsin. Eligible SSI recipients are those actively receiving SSI payments who are ages 18 to 59 who first received SSI before age 26. This outreach will be Phase 1 of the intervention. In addition to providing information encouraging people to sign up for an ABLE account, these letters will invite people to participate in an intake survey. For people who agree to participate, we will collect three different types of data:

• Intake Survey: We will send a link to this online survey in the initial letter we send. This survey will contain four parts:

○ Consent Form: This form will ask respondents for their consent to participate in the study.

○ Program-specific Modules: These will gather information on participants' perceptions of ABLE accounts and will also cover metrics related to employment intentions and financial well-being.

○ Short Informational Video: This video will highlight the advantages of ABLE accounts for SSI recipients and will include closed captions for those who require them.

○ Random Assignment for Second Phase: After people complete the consent form, we will randomly assign them to either a seeding group (in which case they would be eligible for $250 to be placed into a newly opened ABLE account) or the no seeding group. At the end of the survey, we will inform people to which group they are assigned.

• Follow-up Survey: The DO-ABLE evaluation team will administer a follow-up survey to everyone who provided informed consent (regardless of whether they completed the full intake survey, and regardless of their assignment status for phases two and three) two years after their enrollment date. The survey will collect information about similar topics as the intake survey to allow us to assess changes over time, as well as more comprehensive measures of work activity and general well-being. These data will help offer a comprehensive assessment of how the intervention and participation in ABLE affects participants' self-sufficiency and well-being.

• Qualitative Interviews: To offer additional context on the overall process, we will conduct two waves of semi-structured qualitative interviews. Each round will include 40 unique individuals, including a mix of people with disabilities and their supporters, caregivers, and loved ones. We expect the interviews to last about 45 minutes, and will explore respondents' planned use of their ABLE accounts, including contributions and uses of funds. We will also explore key facilitators and barriers to opening and using ABLE accounts that are difficult to assess through surveys and administrative data. In addition, for individuals who did not sign up for an account, we will examine the barriers that prevented them from opening an account and what would need to change for them to sign up. We expect these interviews will assess participants' initial expectations of the value of ABLE accounts in promoting employment, independence, and well-being, and explore how these expectations compare to the participants' actual experience of using ABLE accounts.

SSA is partnering with the University of Chicago's IEL and the Illinois State Treasurer's Office (ILSTO) to implement and evaluate DO-ABLE. The evaluation will provide empirical evidence on (1) the barriers that currently prevent people from opening ABLE accounts; and (2) the impacts of opening and saving money in an ABLE account. We are primarily interested in impacts on financial security, self-sufficiency, and, ultimately, employment. The respondents are current SSI recipients (or their guardians) who are ages 18 to 59 who first received SSI before age 26, and who are thus eligible to open an ABLE account.

Type of Request: Request for a new information collection.

Modality of completion | Number of respondents | Frequency of response | Average burden per response (minutes) | Estimated total annual burden (hours) | Average theoretical hourly cost amount (dollars) * | Average wait time for teleservice centers (minutes) ** | Total annual opportunity cost (dollars) ***
Intake survey—Online | 4,760 | 1 | 15 | 1,190 | * $31.48 |  | *** $37,461
Intake survey—Telephone | 2,040 | 1 | 15 | 510 | * 31.48 | ** 19 | *** 36,391
Follow-up survey—Online | 2,856 | 1 | 15 | 714 | * 31.48 |  | *** 22,477
Follow-up survey—Telephone | 1,224 | 1 | 15 | 306 | * 31.48 | ** 19 | *** 21,847
Qualitative interviews | 80 | 1 | 45 | 60 | * 31.48 | ** 19 | *** 2,676
Totals | 10,960 |  |  | 2,780 |  |  | *** 120,852
* We based this figure on the average U.S. worker's hourly wages, as reported by Bureau of Labor Statistics data (https://www.bls.gov/oes/current/oes_nat.htm).
** We based this figure by averaging the average FY 2024 wait times for teleservice centers, based on SSA's current management information data.
*** This figure does not represent actual costs that SSA is imposing on recipients of Social Security payments to complete this application; rather, these are theoretical opportunity costs for the additional time respondents will spend to complete the application. There is no actual charge to respondents to complete the application.

Dated: September 24, 2024.
Naomi Sipple,
Reports Clearance Officer, Social Security Administration.

[FR Doc. 2024-22178 Filed 9-26-24; 8:45 am]

BILLING CODE 4191-02-P